DEPARTMENT OF TRANSPORTATION

Federal Aviation Administration

14 CFR Part 39

[Docket No. 2000-NM-46-AD; Amendment 39-11970; AD 2000-22-22]

RIN 2120-AA64

Airworthiness Directives; Raytheon Model Hawker 800XP and Hawker 800 (U-125A) Series Airplanes

AGENCY: Federal Aviation Administration, DOT.

ACTION: Final rule.

SUMMARY: This amendment adopts a new airworthiness directive (AD), applicable to certain Raytheon Model Hawker 800XP and Hawker 800 (U-125A) series airplanes, that requires inspection of the wire bundle to relay “KT” on panel “JA” for correct routing, adequate clearance from the fuel cross-feed valve operating lever, and the presence of chafing; this amendment also requires corrective action, if necessary. The actions specified by this AD are intended to detect and correct chafing of the wire bundle exiting panel “JA” due to insufficient clearance from the fuel cross-feed valve operating lever. Such chafing of the wire bundle could result in a fire in the area of the fuel system in a confined space. This action is intended to address the identified unsafe condition.

DATES: Effective December 19, 2000.

The incorporation by reference of certain publications listed in the regulations is approved by the Director of the Federal Register as of December 19, 2000.

ADDRESSES: The service information referenced in this AD may be obtained from Raytheon Aircraft Company, 9709 East Central, Wichita, Kansas 67206. This information may be examined at the Federal Aviation Administration (FAA), Transport Airplane Directorate, Rules Docket, 1601 Lind Avenue, SW., Renton, Washington; or at the FAA, Wichita Aircraft Certification Office, 1801 Airport Road, Room 100, Mid-Continent Airport, Wichita, Kansas; or at the Office of the Federal Register, 800 North Capitol Street, NW., suite 700, Washington, DC.

FOR FURTHER INFORMATION CONTACT: Philip Petty, Aerospace Engineer, Systems and Propulsion Branch, ACE-116W, FAA, Wichita Aircraft Certification Office, 1801 Airport Road, Room 100, Mid-Continent Airport, Wichita, Kansas 67209; telephone (316) 946-4139; fax (316) 946-4407.

SUPPLEMENTARY INFORMATION: A proposal to amend part 39 of the Federal Aviation Regulations (14 CFR part 39) to include an airworthiness directive (AD) that is applicable to certain Model Hawker 800XP and Hawker 800 (U-125A) series airplanes was published in the Federal Register on August 8, 2000 (65 FR 48404). That action proposed to require inspection of the wire bundle to relay “KT” on panel “JA” for correct routing, adequate clearance from the fuel cross-feed valve operating lever, and the presence of chafing. That action also proposed to require corrective action, if necessary.

Comments

Interested persons have been afforded an opportunity to participate in the making of this amendment. No comments were submitted in response to the proposal or the FAA's determination of the cost to the public.

Conclusion

The FAA has determined that air safety and the public interest require the adoption of the rule as proposed.

Cost Impact

There are approximately 148 airplanes of the affected design in the worldwide fleet. The FAA estimates that 60 airplanes of U.S. registry will be affected by this required AD, that it will take approximately 1 work hour per airplane to accomplish the required inspection, and that the average labor rate is $60 per work hour. Based on these figures, the cost impact of the inspection required by this AD on U.S. operators is estimated to be $3,600, or $60 per airplane.

No estimate is provided for the cost impact of repairing the wire bundle or modifying the routing of the wire bundle or ensuring adequate clearance between the wire bundle and the fuel cross-feed valve operating lever because these costs will depend on the extent of the repairs or modifications required.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-22-22 Raytheon Aircraft Company: Amendment 39-11970. Docket 2000-NM-46-AD.

Applicability: Model Hawker 800XP series airplanes, as listed in Raytheon Service Bulletin SB 24-3212, dated August 1999; and Hawker 800 (U-125A) series airplanes, as listed in Raytheon Service Bulletin SB 24-3213, dated February 2000; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To detect and correct chafing of the wire bundle exiting panel “JA” due to insufficient clearance from the fuel cross-feed valve operating lever, which could result in a fire in the area of the fuel system in a confined space, accomplish the following:

Inspection and Corrective Actions

(a) Within 50 flight hours or 6 months after the effective date of this AD, whichever comes first, conduct a one-time detailed visual inspection of the panel “JA” wire bundle in accordance with the Accomplishment Instructions of Raytheon Aircraft Service Bulletin SB 24-3212, dated August 1999 (for Model 800XP series airplanes); or SB 24-3213, Revision 1, dated February 2000 (for Model 800 (U-125A) series airplanes; as applicable.

(1) Ensure that the wire bundle is routed correctly, in accordance with Figure 1 of the applicable service bulletin.

(2) Ensure that a minimum clearance of 0.25-inch exists between the wire bundle from relay “KT” and the fuel cross-feed valve operating lever throughout its range of travel.

Note 2: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(b) If the wire bundle is routed correctly and sufficient clearance exists, no further action is required by this AD.

(c) If the wire bundle is not routed correctly or if sufficient clearance does not exist, prior to further flight, perform a detailed visual inspection of the wire bundle to relay “KT” for chafing, in accordance with the Accomplishment Instructions of Raytheon Aircraft Service Bulletin SB 24-3212, dated August 1999 (for Model 800XP series airplanes); or SB 24-3213, Revision 1, dated February 2000 (for Model 800 (U-125A) series airplanes); as applicable.

(1) If no chafing is detected, prior to further flight, ensure that the wire bundle is routed correctly and ensure that a minimum clearance of 0.25-inch exists between the wire bundle and the fuel cross-feed valve operating valve throughout its range of travel, in accordance with the applicable service bulletin.

(2) If any chafing is detected, prior to further flight, repair the chafed wire, ensure that the wire bundle is routed correctly and ensure that a minimum clearance of 0.25-inch exists between the wire bundle and the fuel cross-feed valve operating valve throughout its range of travel, in accordance with the applicable service bulletin.

Alternative Methods of Compliance

(d) An alternative method of compliance or adjustment of the compliance time that provides an acceptable level of safety may be used if approved by the Manager, Wichita Aircraft Certification Office (ACO), FAA. Operators shall submit their requests through an appropriate FAA Principal Maintenance Inspector, who may add comments and then send it to the Manager, Wichita ACO.

Note 3: Information concerning the existence of approved alternative methods of compliance with this AD, if any, may be obtained from the Wichita ACO.

Special Flight Permits

(e) Special flight permits may be issued in accordance with sections 21.197 and 21.199 of the Federal Aviation Regulations (14 CFR 21.197 and 21.199) to operate the airplane to a location where the requirements of this AD can be accomplished.

Incorporation by Reference

(f) The actions shall be done in accordance with Raytheon Aircraft Service Bulletin SB 24-3212, dated August 1999; or Raytheon Aircraft Service Bulletin SB 24-3213, Revision 1, dated February 2000; as applicable. This incorporation by reference was approved by the Director of the Federal Register in accordance with 5 U.S.C. 552(a) and 1 CFR part 51. Copies may be obtained from Raytheon Aircraft Company, 9709 East Central, Wichita, Kansas 67206. Copies may be inspected at the FAA, Transport Airplane Directorate, 1601 Lind Avenue, SW., Renton, Washington; or at the FAA, Wichita Aircraft Certification Office, 1801 Airport Road, Room 100, Mid-Continent Airport, Wichita, Kansas; or at the Office of the Federal Register, 800 North Capitol Street, NW., suite 700, Washington, DC.

Effective Date

(g) This amendment becomes effective on December 19, 2000.

Issued in Renton, Washington, on November 1, 2000.
Donald L. Riggin,
Acting Manager, Transport Airplane Directorate, Aircraft Certification Service.

[FR Doc. 00-28479 Filed 11-13-00; 8:45 am]

BILLING CODE 4910-13-P